ENVIRONMENTAL PROTECTION AGENCY

[FRL-7838-9]

E-Docket ID No. ORD-2004-0003; Draft Proposed Sampling Program To Determine Extent of World Trade Center Impacts to the Indoor Environment

AGENCY: Environmental Protection Agency.

ACTION: Notice of Extension of Public Comment Period for Draft Proposed Sampling Program to Determine Extent of World Trade Center Impacts to the Indoor Environment.

SUMMARY: On October 21, 2004, EPA published a Federal Register notice (69 FR 61838) announcing the availability of the External Review Draft entitled, Draft Proposed Sampling Program to Determine Extent of World Trade Center Impacts to the Indoor Environment (EPA/600/R-04/169A), and the beginning of a 30-day public comment period. At the request of members of the Lower Manhattan community and labor organizations who have said an extension is needed for them to formulate their comments, EPA is extending the public comment period until January 3, 2005. EPA will consider the public comment submissions in revising the document.

DATES: The public comment period will end on January 3, 2005. Technical comments should be in writing and must be postmarked by January 3, 2005.

ADDRESSES: The External Review Draft, Draft Proposed Sampling Program to Determine Extent of World Trade Center Impacts to the Indoor Environment, is available via the Internet on the web page of the World Trade Center (WTC) Expert Technical Review Panel, http://www.epa.gov/wtc/panel/. Comments may be submitted electronically, by mail, by facsimile or by hand delivery/courier. Please follow the detailed instructions as provided in the Supplementary Information section below.

FOR FURTHER INFORMATION CONTACT: For further information on the draft sampling proposal, please contact Matthew Lorber at (202) 564-3243 or lorber.matthew@epa.gov. For further information regarding the WTC Expert Technical Review Panel, please contact Lisa Matthews at (202) 564-6669 or matthews.lisa@epa.gov.

SUPPLEMENTARY INFORMATION:

1. How To Submit Information to E-Docket

EPA has established an official public docket for information pertaining to this action, Docket ID No. ORD-2004-0003. The official public docket is the collection of materials, excluding Confidential Business Information (CBI) or other information whose disclosure is restricted by statute, that is available for public viewing at the Office of Environmental Information (OEI) Docket in the Headquarters EPA Docket Center (EPA/DC), EPA West Building, Room B102, 1301 Constitution Ave., NW, Washington, DC. The EPA Docket Center Public Reading Room is open from 8:30 a.m. to 4:30 p.m., Monday through Friday, excluding legal holidays. The telephone number for the Public Reading Room is (202) 566-1744, and the telephone number for the OEI Docket is (202) 566-1752; facsimile: (202) 566-1753; or e-mail: ORD.Docket@epa.gov.

An electronic version of the official public docket is available through EPA's electronic public docket and comment system, EPA Dockets. You may use EPA Dockets at http://www.epa.gov/edocket/ to submit or view public comments, to access the index listing of the contents of the official public docket, and to view those documents in the public docket that are available electronically. Once in the system, select “search,” then key in the appropriate docket identification number.

Certain types of information will not be placed in EPA Dockets. As indicated above, information claimed as CBI and other information whose disclosure is restricted by statute is not included in the official public docket; the same information will not be available for public viewing in EPA Dockets. Copyrighted material also will not be placed in EPA Dockets but will be referenced there and available as printed material in the official public docket.

Persons submitting information should note that EPA's policy makes the information available as received and at no charge for public viewing in EPA Dockets. This policy applies to information submitted electronically or in paper, except where restricted by copyright, CBI or statute.

Unless restricted as above, information submitted on computer disks that are mailed or delivered to the docket will be transferred to EPA Dockets. Physical objects will be photographed, where practical, and the photograph will be placed in EPA Dockets along with a brief description written by the docket staff.

You may submit information electronically, by mail, by facsimile or by hand delivery/courier. To ensure proper receipt by EPA, include the appropriate docket identification number with your submission. Please adhere to the specified submitting period. Information received or submitted past the close date will be marked “late” and will only be considered if time permits.

If you submit information electronically, EPA recommends that you include your name, mailing address, and an e-mail address or other details for contacting you. Also include these contact details on the outside of any disk or CD ROM you submit and in any cover letter accompanying the disk or CD ROM. This ensures that you can be identified as the person submitting the information and allows EPA to contact you in case the Agency cannot read what you submit due to technical difficulties or needs to clarify issues raised by what you submit. If EPA cannot read what you submit due to technical difficulties and cannot contact you for clarification, this situation may delay or prevent the Agency's consideration of the information.

To access EPA's electronic public docket from the EPA Internet Home Page, select “Information Sources,” “Dockets,” and “EPA Dockets.” Once in the system, select “search,” and then key in Docket ID No. ORD-2004-0003. The system is an “anonymous access” system, which means EPA will not know your identity, e-mail address or other contact details unless you provide it with the information you submit.

Information may be sent by electronic mail (e-mail) to ORD.Docket@epa.gov, Attention Docket ID No. ORD-2004-0003. In contrast to EPA's electronic public docket, EPA's e-mail system is not an “anonymous access” system. If you send an e-mail directly to the docket without going through EPA's electronic public docket, EPA's e-mail system automatically captures your e-mail address, and it becomes part of the information in the official public docket and is made available in EPA's electronic public docket.

You may submit information on a disk or CD ROM that you mail to the OEI Docket mailing address. Files will be accepted in WordPerfect, Word or ASCII file format. Avoid the use of special characters and any form of encryption.

If you provide information in writing, please submit one unbound original, with pages numbered consecutively, and three copies. For attachments, provide an index, number pages consecutively with the main text, and submit an unbound original and three copies.

Dated: November 12, 2004.
Paul Gilman,
EPA Science Advisor and Assistant Administrator for Research and Development.

[FR Doc. 04-25715 Filed 11-18-04; 8:45 am]

BILLING CODE 6560-50-P